DEPARTMENT OF JUSTICE

Drug Enforcement Administration

Julie Halling, M.D.; Decision and Order

On November 4, 2021, the Drug Enforcement Administration (hereinafter, DEA or Government), issued an Order to Show Cause (OSC) to Julie Halling, M.D. (hereinafter, Registrant). OSC, at 1. The OSC proposed the revocation of Registrant's Certificate of Registration, No. BH6450174, at the registered address of 5102 Galley Road, Lot 304C, Colorado Springs, Colorado. The OSC alleged that Registrant's registration should be revoked because Registrant is without “authority to handle controlled substances in the state in which [Registrant is] registered with the DEA.” Id. (citing 21 U.S.C. 824(a)(3)).

The Agency makes the following findings of fact based on the uncontroverted evidence submitted by the Government in a Request for Final Agency Action (RFAA) on May 16, 2022.¹

¹ Based on the affidavit of a DEA Diversion Investigator that the Government submitted with the RFAA, the Agency finds that the Government's attempts to serve Registrant with the OSC were adequate. RFAA Exhibit B. Further, based on the assertions of the Government, the Agency finds that more than thirty days have passed and Registrant has not requested a hearing, submitted a written statement or corrective action plan and therefore has waived any such rights. 21 CFR 1301.43(d) and 21 U.S.C. 824(c)(2)(C). RFAA, at 2.

Findings of Fact

On February 29, 2021, the Colorado Medical Board issued a Final Board Order that revoked Registrant's license to practice medicine in the State of Colorado. RFAA Exhibit 2, App.1 (Final Board Order). According to Colorado's online records, of which the Agency takes official notice, Registrant's license is still revoked.² Colorado Professional or Business License Lookup, https://apps.colorado.gov/dora/licensing/Lookup/LicenseLookup.aspx (last visited date of signature of this Order). Accordingly, the Agency finds that Registrant currently is not licensed to engage in the practice of medicine in Colorado, the state in which Registrant is registered with the DEA.

² Under the Administrative Procedure Act, an agency “may take official notice of facts at any stage in a proceeding—even in the final decision.” United States Department of Justice, Attorney General's Manual on the Administrative Procedure Act 80 (1947) (Wm. W. Gaunt & Sons, Inc., Reprint 1979). Pursuant to 5 U.S.C. 556(e), “[w]hen an agency decision rests on official notice of a material fact not appearing in the evidence in the record, a party is entitled, on timely request, to an opportunity to show the contrary.” Accordingly, Respondent may dispute the Agency's finding by filing a properly supported motion for reconsideration of findings of fact within fifteen calendar days of the date of this Order. Any such motion and response shall be filed and served by email to the other party and to Office of the Administrator, Drug Enforcement Administration at dea.addo.attorneys@dea.usdoj.gov.

Discussion

Pursuant to 21 U.S.C. 824(a)(3), the Attorney General is authorized to suspend or revoke a registration issued under section 823 of the Controlled Substances Act (CSA) “upon a finding that the registrant . . . has had his State license or registration suspended . . . [or] revoked . . . by competent State authority and is no longer authorized by State law to engage in the . . . dispensing of controlled substances.” With respect to a practitioner, the DEA has also long held that the possession of authority to dispense controlled substances under the laws of the state in which a practitioner engages in professional practice is a fundamental condition for obtaining and maintaining a practitioner's registration.³ See, e.g., James L. Hooper, M.D., 76 FR 71371 (2011), pet. for rev. denied, 481 F. App'x 826 (4th Cir. 2012); Frederick Marsh Blanton, M.D., 43 FR 27616, 27617 (1978).

³ This rule derives from the text of two provisions of the CSA. First, Congress defined the term “practitioner” to mean “a physician . . . or other person licensed, registered, or otherwise permitted, by . . . the jurisdiction in which he practices . . . , to distribute, dispense, . . . [or] administer . . . a controlled substance in the course of professional practice.” 21 U.S.C. 802(21). Second, in setting the requirements for obtaining a practitioner's registration, Congress directed that “[t]he Attorney General shall register practitioners . . . if the applicant is authorized to dispense . . . controlled substances under the laws of the State in which he practices.” 21 U.S.C. 823(f). Because Congress has clearly mandated that a practitioner possess state authority in order to be deemed a practitioner under the CSA, the DEA has held repeatedly that revocation of a practitioner's registration is the appropriate sanction whenever he is no longer authorized to dispense controlled substances under the laws of the state in which he practices. See, e.g., James L. Hooper, 76 FR at 71, 371-72; Sheran Arden Yeates, M.D., 71 FR 39130, 39131 (2006); Dominick A. Ricci, M.D., 58 FR 51104, 51105 (1993); Bobby Watts, M.D., 53 FR 11919, 11920 (1988); Frederick Marsh Blanton, 43 FR at 27617.

According to Colorado statute, “[e]very person who manufactures, distributes, or dispenses any controlled substance within this state . . . shall obtain . . . a registration, issued by the respective licensing board . . . . For purposes of this section and this article [ ], `registration' or `registered' means . . . the licensing of physicians by the Colorado medical board . . . .” Colo. Rev. Stat. Ann. § 18-18-302(1) (West 2019). Here, the undisputed evidence in the record is that Registrant's Colorado medical license was revoked by the Colorado Medical Board. Registrant, therefore, is not authorized to dispense controlled substances in Colorado and is not eligible to maintain a DEA registration. Accordingly, the Agency will order that Registrant's DEA registration be revoked.

Order

Pursuant to 28 CFR 0.100(b) and the authority vested in me by 21 U.S.C. 824(a), I hereby revoke DEA Certificate of Registration No. BH6450174 issued to Julie Halling, M.D. Further, pursuant to 28 CFR 0.100(b) and the authority vested in me by 21 U.S.C. 823(f), I hereby deny any pending application of Julie Halling, M.D. to renew or modify this registration, as well as any other pending application of Julie Halling, M.D. for additional registration in Colorado. This Order is effective [insert Date Thirty Days From the Date of Publication in the Federal Register].

Signing Authority

This document of the Drug Enforcement Administration was signed on June 16, 2022, by Administrator Anne Milgram. That document with the original signature and date is maintained by DEA. For administrative purposes only, and in compliance with requirements of the Office of the Federal Register, the undersigned DEA Federal Register Liaison Officer has been authorized to sign and submit the document in electronic format for publication, as an official document of DEA. This administrative process in no way alters the legal effect of this document upon publication in the Federal Register.

Scott Brinks,
Federal Register Liaison Officer, Drug Enforcement Administration.

[FR Doc. 2022-13602 Filed 6-24-22; 8:45 am]

BILLING CODE 4410-09-P